DEPARTMENT OF DEFENSE

Office of the Secretary

Panel To Review the V-22 Program

AGENCY: Department of Defense.

ACTION: Notice.

SUMMARY: The Department of Defense previously announced that it would conduct two open meetings (66 FR 10486). The Panel has also announced that it would hold an open meeting to conduct deliberations on April 13, 2001. The date for that meeting has been changed from April 13 to April 18, 2001. The meeting will begin at 9 a.m. and end no later than 12 p.m.

On March 9, 2001 the Panel held a public meeting and received information from the general public regarding the V-22 aircraft as previously announced.

DATES: April 18, 2001.

ADDRESSES: Crowne Plaza Hotel, 1489 Jefferson Davis Highway, Arlington Ballroom, Mezzanine Level, Arlington, VA 22202.

FOR FURTHER INFORMATION CONTACT: Contact Mr. Gary J. Gray, the Executive Secretary, 1235 Jefferson Davis Highway, Suite 940, Arlington, VA 22202-3283, phone (703) 602-1515, fax (703) 602-1532. Copies of the draft meeting agenda can be obtained by contacting Mrs. Carolyn Duke or Mr. Doug Pang by phone (703) 602-1515 or by fax (703) 602-1532.

SUPPLEMENTARY INFORMATION: Seating spaces for members of the public who want to observe the open meeting will be available on a first-come, first-served basis beginning at 8:30 a.m. No teleconference lines will be available. The Panel will not entertain questions or comments from the press or public at the meeting. The purpose of the meeting is to conduct deliberations.

Dated: March 27, 2001.
L.M. Bynum,
Alternate OSD Federal Register Liaison Officer, Department of Defense.

[FR Doc. 01-8029 Filed 3-30-01; 8:45 am]

BILLING CODE 5000-10—M